DEPARTMENT OF HOMELAND SECURITY

Federal Emergency Management Agency

[Docket ID FEMA-2023-0002]

Final Flood Hazard Determinations

AGENCY: Federal Emergency Management Agency, Department of Homeland Security.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below. The FIRM and FIS report are the basis of the floodplain management measures that a community is required either to adopt or to show evidence of having in effect in order to qualify or remain qualified for participation in the Federal Emergency Management Agency's (FEMA's) National Flood Insurance Program (NFIP).

DATES: The date of May 8, 2024 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Nicholas A. Shufro,
Deputy Assistant Administrator for Risk Management, Federal Emergency Management Agency, Department of Homeland Security.

Community | Community map repository address
San Bernardino County, California and Incorporated Areas
Docket No.: FEMA-B-2296
City of Chino | City Hall, 13220 Central Avenue, Chino, CA 91710.
City of Chino Hills | City Hall, 14000 City Center Drive, Chino Hills, CA 91709.
City of Colton | Colton Corporate Yard, 160 South 10th Street, Colton, CA 92324.
City of Rialto | City Hall, 150 South Palm Avenue, Rialto, CA 92376.
Unincorporated Areas of San Bernardino County | San Bernardino County Department of Public Works, 825 East 3rd Street, San Bernardino, CA 92415.
Carroll County, Indiana and Incorporated Areas
Docket No.: FEMA-B-2300
City of Delphi | Carroll County Area Plan Commission, Carroll County Courthouse, 101 West Main Street, Delphi, IN 46923.
Unincorporated Areas of Carroll County | Carroll County Area Plan Commission, Carroll County Courthouse, 101 West Main Street, Delphi, IN 46923.
Black Hawk County, Iowa and Incorporated Areas
Docket No.: FEMA-B-1975, B-2145 and B-2303
City of Cedar Falls | City Hall, 220 Clay Street, Cedar Falls, IA 50613.
City of Dunkerton | City Hall, 200 Tower Street, Dunkerton, IA 50626.
City of Elk Run Heights | City Hall, 5042 Lafayette Road, Elk Run Heights, IA 50707.
City of Gilbertville | City Hall, 1321 5th Street, Gilbertville, IA 50634.
City of Hudson | City Hall, 525 Jefferson Street, Hudson, IA 50643.
City of La Porte City | City Hall, 202 Main Street, La Porte City, IA 50651.
City of Raymond | City Hall, 101 First Street, Raymond, IA 50667.
City of Waterloo | City Hall, Planning and Zoning Department, 715 Mulberry Street, Waterloo, IA 50703.
Unincorporated Areas of Black Hawk County | Black Hawk County Courthouse, 316 East 5th Street, Waterloo, IA 50703.
Breckinridge County, Kentucky and Incorporated Areas
Docket No.: FEMA-B-2289
City of Cloverport | City Hall, 212 West Main Street, Cloverport, Kentucky 40111.
Unincorporated Areas of Breckinridge County | Breckinridge County Courthouse, 208 South Main Street, Hardinsburg, Kentucky 40143.
Hancock County, Kentucky and Incorporated Areas
Docket No.: FEMA-B-2289
City of Hawesville | City Hall, 395 Main Street, Hawesville, Kentucky 42348.
City of Lewisport | City Hall, 405 2nd Street, Lewisport, Kentucky 42351.
Unincorporated Areas of Hancock County | Hancock County Administrative Building, 225 Main Cross Street, Hawesville, Kentucky 42348.
Henderson County, Kentucky and Incorporated Areas
Docket No.: FEMA-B-2289
City of Henderson | Henderson County Planning Commissioner's Office, 1990 Barret Court, Suite C, Henderson, Kentucky 42420.
Unincorporated Areas of Henderson County | Henderson County Planning Commissioner's Office, 1990 Barrett Court, Suite A, Henderson, Kentucky 42420.
Preble County, Ohio and Incorporated Areas
Docket No.: FEMA-B-2288
City of Eaton | Municipal Building, 328 North Maple Street, Eaton, OH 45320.
Unincorporated Areas of Preble County | Preble County Courthouse, Land Use Management Office, 101 East Main Street, Eaton, OH 45320.
Village of Camden | Village Office, 56 West Central Avenue, Camden, OH 45311.
Village of Gratis | Village Office, 404 East Harrison Street, Gratis, OH 45330.
Village of Lewisburg | Municipal Office, 112 South Commerce Street, Lewisburg, OH 45338.
Village of Verona | Municipal Building, 138 Mill Street, Verona, OH 45378.
Village of West Alexandria | Village Office, 1 Water Street, West Alexandria, OH 45381.
Hutchinson County, South Dakota and Incorporated Areas
Docket No.: FEMA-B-2296
City of Freeman | City Hall, 185 East 3rd Street, Freeman, SD 57029.
City of Menno | City Hall, 236 South 5th Street, Menno, SD 57045.
City of Parkston | City Hall, 207 West Main Street, Parkston, SD 57366.
Town of Olivet | Town Hall, 125 South 3rd Street, Olivet, SD 57052.
Unincorporated Areas of Hutchinson County | Hutchinson County Courthouse, 201 West Mentor Street, Olivet, SD 57052.
Comal County, Texas and Incorporated Areas
Docket No.: FEMA-B-2221
City of New Braunfels | City Hall, 550 Landa Street, New Braunfels, TX 78130.
Unincorporated Areas of Comal County | Comal County Engineer's Office, 195 David Jonas Drive, New Braunfels, TX 78132.
Chesterfield County, Virginia (All Jurisdictions)
Docket No.: FEMA-B-2271
Unincorporated Areas of Chesterfield County | Chesterfield County Community Development Building, 9800 Government Center Parkway, Chesterfield, VA 23832.
Thurston County, Washington and Incorporated Areas
Docket No.: FEMA-B-2292
City of Lacey | City Hall, 420 College Street SE, Lacey, WA 98503.
City of Olympia | City Hall, 601 4th Avenue E, Olympia, WA 98501.
City of Rainier | City Hall, 102 Rochester Street W, Rainier, WA 98576.
City of Tumwater | City Hall, 555 Israel Road SW, Tumwater, WA 98501.
Unincorporated Areas of Thurston County | Thurston County Courthouse, 2000 Lakeridge Drive SW, Building One, Olympia, WA 98502.
Door County, Wisconsin and Incorporated Areas
Docket No.: FEMA-B-2297
City of Sturgeon Bay | City Hall, 421 Michigan Street, Sturgeon Bay, WI 54235.
Unincorporated Areas of Door County | Door County Government Center, 421 Nebraska Street, Sturgeon Bay, WI 54235.
Village of Egg Harbor | Village Administration Office—Paul J. Bertschinger Community Center, 7860 State Highway 42, Egg Harbor, WI 54209.
Village of Ephraim | Administrative Offices, 10005 Norway Street, Ephraim, WI 54211.
Village of Sister Bay | Village Hall, 2383 Maple Drive, Sister Bay, WI 54234.

[FR Doc. 2023-28367 Filed 12-22-23; 8:45 am]

BILLING CODE 9110-12-P